DEPARTMENT OF COMMERCE

Foreign-Trade Zones Board

[B-25-2016]

Foreign-Trade Zone (FTZ) 133—Quad-Cities, Iowa/Illinois; Authorization of Production Activity; Deere & Company; Subzone 133D (Construction and Forestry Equipment); Davenport, Iowa

On April 15, 2016, Deere & Company submitted a notification of proposed production activity to the Foreign-Trade Zones (FTZ) Board for its facility within Subzone 133D, in Davenport, Iowa.

The notification was processed in accordance with the regulations of the FTZ Board (15 CFR part 400), including notice in the Federal Register inviting public comment (81 FR 26200, May 2, 2016). The FTZ Board has determined that no further review of the activity is warranted at this time. The production activity described in the notification is authorized, subject to the FTZ Act and the Board's regulations, including Section 400.14.

Dated: August 15, 2016.
Andrew McGilvray,
Executive Secretary.

[FR Doc. 2016-20017 Filed 8-19-16; 8:45 am]

BILLING CODE 3510-DS-P